DEPARTMENT OF STATE

[Public Notice 5600]

U.S. Department of State Advisory Committee on Private International Law: Study Group on Consumer Protection

The Department of State Advisory Committee on Private International Law will hold a study group to discuss the various proposals on consumer protection which have been made in connection with the Organization of American States' Seventh Inter-American Specialized Conference on Private International Law. The meeting will take place Thursday, November 9th from 10 a.m. until 1 p.m. at the International Law Institute, The Foundry Building, 1055 Thomas Jefferson St., NW., Washington, DC.

Public Participation: Advisory Committee Study group meetings are open to the public. Persons wishing to attend need to provide in advance, not later than Monday, November 6, their name, address, contact numbers, including e-mail address if available, and affiliation(s) to Trisha Smeltzer at smeltzertk@state.gov. Additional meeting information can be obtained from Ms. Smeltzer at 202-776-8423. Persons who cannot attend but who wish to comment on any of the topics referred to are welcome to do so in writing or by e-mail to Michael Dennis at DennisMJ@state.gov or Harold Burman at BurmanHS@State.gov.

Dated: October 24, 2006.
David P. Stewart,
Assistant Legal Advisor, Office of Private International Law, Department of State.

[FR Doc. E6-18274 Filed 10-30-06; 8:45 am]

BILLING CODE 4710-08-P